DEPARTMENT OF JUSTICE

Drug Enforcement Administration

[DEA #223P]

Controlled Substances: Proposed Aggregate Production Quotas for 2002

AGENCY: Drug Enforcement Administration (DEA), Justice.

ACTION: Notice of proposed year 2002 aggregate production quotas.

SUMMARY: This notice proposes initial year 2002 aggregate production quotas for controlled substances in Schedules I and II of the Controlled Substances Act (CSA).

DATES: Comments or objections must be received on or before December 4, 2001.

ADDRESSES: Send comments or objections to the Administrator, Drug Enforcement Administration, Washington, DC 20537, Attn.: DEA Federal Register Representative (CCR).

FOR FURTHER INFORMATION CONTACT: Frank L. Sapienza, Chief, Drug and Chemical Evaluation Section, Drug Enforcement Administration, Washington, DC 20537, Telephone: (202) 307-7183

SUPPLEMENTARY INFORMATION: Section 306 of the CSA (21 U.S.C. 826) requires that the Attorney General establish aggregate production quotas for each basic class of controlled substance listed in Schedules I and II. This responsibility has been delegated to the Administrator of the DEA by section 0.100 of Title 28 of the Code of Federal Regulations.

The proposed year 2002 aggregate production quotas represent those quantities of controlled substances that may be produced in the United States in 2002 to provide adequate supplies of each substance for: the estimated medical, scientific, research, and industrial needs of the United States; lawful export requirements; and the establishment and maintenance of reserve stocks. These quotas do not include imports of controlled substances for use in industrial processes.

In determining the proposed year 2002 aggregate production quotas, the Administrator considered the following factors: total actual 2000 and estimated 2001 and 2002 net disposals of each substance by all manufacturers; estimates of 2001 year-end inventories of each substance and of any substance manufactured from it and trends in accumulation of such inventories; product development requirements of both bulk and finished dosage form manufacturers; projected demand as indicated by procurement quota applications filed pursuant to section 1303.12 of Title 21 of the Code of Federal Regulations; and other pertinent information.

Pursuant to section 1303 of Title 21 of the Code of Federal Regulations, the Administrator of the DEA will, in early 2002, adjust aggregate production quotas and individual manufacturing quotas allocated for the year based upon 2001 year-end inventory and actual 2001 disposition data supplied by quota recipients for each basic class of Schedule I or II controlled substance.

Therefore, under the authority vested in the Attorney General by section 306 of the CSA of 1970 (21 U.S.C. 826), and delegated to the Administrator of the DEA by Section 0.100 of Title 28 of the Code of Federal Regulations, the Administrator hereby proposes that the year 2002 aggregate production quotas for the following controlled substances, expressed in grams of anhydrous acid or base, be established as follows:

Basic class | Proposed year 2002 quotas
Schedule I
2,5-Dimethoxyamphetamine | 12,501,000
2,5-Dimethoxy-4-ethylamphetamine (DOET) | 2
3-Methylfentanyl | 4
3-Methylthiofentanyl | 2
3,4-Methylenedioxy-amphetamine (MDA) | 15
3,4-Methylenedioxy-N-ethylamphetamine (MDEA) | 15
3,4-Methylenedioxy-methamphetamine (MDMA) | 15
3,4,5-Trimethoxyamphetamine | 2
4-Bromo-2,5-Dimethoxyamphetamine (DOB) | 2
4-Bromo-2,5-Dimethoxyphenethylamine (2-CB) | 2
4-Methoxyamphetamine | 7
4-Methylaminorex | 2
4-Methyl-2,5-Dimethoxyamphetamine (DOM) | 2
5-Methoxy-3,4-Methylene-dioxyamphetamine | 2
Acetyl-alpha-methylfentanyl | 2
Acetyldihydrocodeine | 2
Acetylmethadol | 2
Allylprodine | 2
Alphacetylmethadol | 7
Alpha-ethyltryptamine | 2
Alphameprodine | 2
Alphamethadol | 2
Alpha-methylfentanyl | 2
Alpha-methylthiofentanyl | 2
Aminorex | 7
Benzylmorphine | 2
Betacetylmethadol | 2
Beta-hydroxy-3-methylfentanyl | 2
Beta-hydroxyfentanyl | 2
Betameprodine | 2
Betamethadol | 2
Betaprodine | 2
Bufotenine | 2
Cathinone | 9
Codeine-N-oxide | 2
Diethyltryptamine | 2
Difenoxin | 9,000
Dihydromorphine | 1,101,000
Dimethyltryptamine | 3
Gamma-hydroxybutyric acid | 7
Heroin | 2
Hydroxypethidine | 2
Lysergic acid diethylamide (LSD) | 46
Marihuana | 715,000
Mescaline | 7
Methaqualone | 9
Methcathinone | 9
Morphine-N-oxide | 2
N,N-Dimethylamphetamine | 7
N-Ethyl-1-Phenylcyclohexylamine (PCE) | 5
N-Ethylamphetamine | 7
N-Hydroxy-3,4-Methylene-dioxyamphetamine | 2
Noracymethadol | 2
Norlevorphanol | 2
Normethadone | 7
Normorphine | 7
Para-fluorofentanyl | 2
Pholcodine | 2
Propiram | 415,000
Psilocybin | 2
Psilocyn | 2
Tetrahydrocannabinols | 131,000
Thiofentanyl | 2
Trimeperidine | 2
Schedule II
1-Phenylcyclohexylamine | 12
1-Piperidinocyclo-hexanecarbonitrile (PCC) | 10
Alfentanil | 672
Alphaprodine | 2
Amobarbital | 451,000
Amphetamine | 13,964,000
Carfentanil | 120
Cocaine | 251,000
Codeine (for sale) | 38,901,000
Codeine (for conversion) | 59,051,000
Dextropropoxyphene | 126,001,000
Dihydrocodeine | 376,000
Diphenoxylate | 401,000
Ecgonine | 51,000
Ethylmorphine | 12
Fentanyl | 440,000
Glutethimide | 2
Hydrocodone (for sale) | 23,825,000
Hydrocodone (for conversion) | 13,500,000
Hydromorphone | 1,409,000
Isomethadone | 12
Levo-alphacetylmethadol (LAAM) | 12
Levomethorphan | 2
Levorphanol | 37,000
Meperidine | 9,479,000
Metazocine | 1
Methadone (for sale) | 12,705,000
Methadone Intermediate | 18,004,000
Methamphetamine | 2,315,000
325,000 grams of levo-desoxyephedrine for use in a non-controlled, non-prescription product; 1,950,000 grams for methamphetamine for conversion to a Schedule III product; and 40,000 grams for methamphetamine (for sale)
Methylphenidate | 17,618,000
Morphine (for sale) | 15,615,000
Morphine (for conversion) | 110,774,000
Nabilone | 2
Noroxymorphone (for sale) | 25,000
Noroxymorphone (for conversion) | 6,000,000
Opium | 500,000
Oxycodone (for sale) | 40,109,000
Oxycodone (for conversion) | 311,000
Oxymorphone | 204,000
Pentobarbital | 27,728,000
Phencyclidine | 21
Phenmetrazine | 2
Phenylacetone | 801,000
Secobarbital | 2
Sufentanil | 1,700
Thebaine | 59,090,000

The Administrator further proposes that aggregate production quotas for all other Schedules I and II controlled substances included in sections 1308.11 and 1308.12 of Title 21 of the Code of Federal Regulations be established at zero.

All interested persons are invited to submit their comments and objections in writing regarding this proposal. A person may object to or comment on the proposal relating to any of the above-mentioned substances without filing comments or objections regarding the others. If a person believes that one or more of these issues warrant a hearing, the individual should so state and summarize the reasons for this belief.

In the event that comments or objections to this proposal raise one or more issues which the Administrator finds warrant a hearing, the Administrator shall order a public hearing by notice in the Federal Register, summarizing the issues to be heard and setting the time for the hearing.

The Office of Management and Budget has determined that notices of aggregate production quotas are not subject to centralized review under Executive Order 12866.

This action does not preempt or modify any provision of state law; nor does it impose enforcement responsibilities on any state; nor does it diminish the power of any state to enforce its own laws. Accordingly, this action does not have federalism implications warranting the application of Executive Order 13132.

The Administrator hereby certifies that this action will have no significant impact upon small entities whose interests must be considered under the Regulatory Flexibility Act, 5 U.S.C. 601 et seq. The establishment of aggregate production quotas for Schedules I and II controlled substances is mandated by law and by international treaty obligations. The quotas are necessary to provide for the estimated medical, scientific, research and industrial needs of the United States, for export requirements and the establishment and maintenance of reserve stocks. While aggregate production quotas are of primary importance to large manufacturers, their impact upon small entities is neither negative nor beneficial. Accordingly, the Administrator has determined that this action does not require a regulatory flexibility analysis.

This action meets the applicable standards set forth in sections 3(a) and 3(b)(2) of Executive Order 12988 Civil Justice Reform.

This action will not result in the expenditure by State, local, and tribal governments, in the aggregate, or by the private sector, of $100,000,000 or more in any one year, and will not significantly or uniquely affect small governments. Therefore, no actions were deemed necessary under the provisions of the Unfunded Mandates Reform Act of 1995.

This action is not a major rule as defined by Section 804 of the Small Business Regulatory Enforcement Fairness Act of 1996. This action will not result in an annual effect on the economy of $100,000,000 or more; a major increase in costs or prices; or significant adverse effects on competition, employment, investment, productivity, innovation, or on the ability of United States-based companies to compete with foreign-based companies in domestic and export markets.

The Drug Enforcement Administration makes every effort to write clearly. If you have suggestions as to how to improve the clarity of this regulation, call or write Frank L. Sapienza, Chief, Drug and Chemical Evaluation Section, Office of Diversion Control, Drug Enforcement Administration, Washington, DC 20537, Telephone: (202) 307-7183.

Dated: November 6, 2001.
Asa Hutchinson,
Administrator.

[FR Doc. 01-28264 Filed 11-9-01; 8:45 am]

BILLING CODE 4410-09-P